DEPARTMENT OF LABOR

Agency Information Collection Activities; Submission for OMB Review; Comment Request; Claim for Compensation by a Dependent Information Reports

AGENCY: Office of the Secretary, DOL.

ACTION: Notice.

SUMMARY: On July 1, 2013, the Department of Labor (DOL) will submit the Office of Workers' Compensation Programs (OWCP) sponsored information collection request (ICR) revision titled, “Claim for Compensation by a Dependent Information Reports,” to the Office of Management and Budget (OMB) for review and approval for use in accordance with the Paperwork Reduction Act (PRA) of 1995.

DATES: Submit comments on or before July 31, 2013.

ADDRESSES: A copy of this ICR with applicable supporting documentation; including a description of the likely respondents, proposed frequency of response, and estimated total burden may be obtained free of charge from the RegInfo.gov Web site at http://www.reginfo.gov/public/do/PRAViewICR?ref_nbr=201302-1240-001 (this link will only become active on July 2, 2013) or by contacting Michel Smyth by telephone at 202-693-4129 (this is not a toll-free number) or sending an email to DOL_PRA_PUBLIC@dol.gov.

Submit comments about this request to the Office of Information and Regulatory Affairs, Attn: OMB Desk Officer for DOL-OWCP, Office of Management and Budget, Room 10235, 725 17th Street NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

SUPPLEMENTARY INFORMATION: Authority: 44 U.S.C. 3507(a)(1)(D).

This ICR covers forms a dependent of a deceased Federal employee, whose death is work-related, uses to prove continued eligibility for benefits, to show entitlement to remaining compensation payments of the deceased employee, and to show dependency. The collection of this information is required by 5 U.S.C. 8110 and regulations 20 CFR 10.7, 10.105, 10.410, 10.413, 10.417, 10.535, and 10.537. Specifically, this ICR covers Forms CA-5, CA-5b, CA-1031, and CA-1074, as well as related form letters used to obtain follow-up information commonly needed to clarify an initial benefit claim.

This ICR seeks to revise Forms CA-5 and CA-5b, in order to collect information that will allow for the direct deposit of benefit payments into a beneficiary's account with a financial institution. In addition, the OWCP is adding information about how a respondent with a disability may obtain further assistance in responding to the forms and letters covered by this ICR. For additional substantive information about this ICR, see the related notice published in the Federal Register on March 12, 2013 (78 FR 15742).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1240-0013. The current approval is scheduled to expire on July 31, 2013; however, it should be noted that existing information collection requirements submitted to the OMB receive a month-to-month extension while they undergo review. New requirements would only take effect upon OMB approval.

Interested parties are encouraged to send comments to the OMB, Office of Information and Regulatory Affairs at the address shown in the ADDRESSES section by July 31, 2013. In order to help ensure appropriate consideration, comments should mention OMB Control Number 1240-0013. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Claim for Compensation by a Dependent Information Reports.

OMB Control Number: 1240-0013.

Affected Public: Individuals or households.

Total Estimated Number of Respondents: 2,920.

Total Estimated Number of Responses: 2,920.

Total Estimated Annual Burden Hours: 1,571.

Total Estimated Annual Other Costs Burden: $1,431.

Dated: June 24, 2013.
Michel Smyth,
Departmental Clearance Officer.

[FR Doc. 2013-15540 Filed 6-27-13; 8:45 am]

BILLING CODE 4510-CH-P